DEPARTMENT OF HEALTH AND HUMAN SERVICES

National Institutes of Health

Center for Scientific Review; Amended Notice of Meeting

Notice is hereby given of a change in the meeting of the Center for Scientific Review Special Emphasis Panel; Review of AREA grants in Cell Biology, Molecular Biology and Genetics, July 08, 2024, 09:00 a.m. to July 09, 2024, 07:00 p.m., National Institutes of Health, Rockledge II, 6701 Rockledge Drive, Bethesda, MD 20892, which was published in the Federal Register on June 07, 2024, 89 FR 48659, Doc 2024-12475.

This meeting is being amended to change the meeting from a two-day meeting to a one-day meeting on July 8, 2024, from 9:00 a.m. to 7:00 p.m. The meeting is closed to the public.

Dated: June 18, 2024.
Lauren A. Fleck,
Program Analyst, Office of Federal Advisory Committee Policy.

[FR Doc. 2024-13840 Filed 6-24-24; 8:45 am]

BILLING CODE 4140-01-P